DEPARTMENT OF COMMERCE

National Oceanic and Atmospheric Administration

[I.D. 052305C]

Pacific Fishery Management Council; Public Meetings

AGENCY: National Marine Fisheries Service (NMFS), National Oceanic and Atmospheric Administration (NOAA), Commerce.

ACTION: Notice; public meetings.

SUMMARY: The Pacific Fishery Management Council (Council) and its advisory entities will hold public meetings.

DATES: The Council and its advisory entities will meet June 12-17, 2005. The Council meeting will begin on Monday, June 13, at 1 p.m., reconvening each day through Friday. All meetings are open to the public, except a closed session will be held at 1 p.m. until 2 p.m. on Monday, June 13 to address litigation and personnel matters. The Council will meet as late as necessary each day to complete its scheduled business.

ADDRESSES: The meetings will be held at the Crowne Plaza Hotel, 1221 Chess Drive, Foster City, CA 94404; telephone: 650-570-5700.

Council address: Pacific Fishery Management Council, 7700 NE Ambassador Place, Suite 200, Portland, OR 97220.

FOR FURTHER INFORMATION CONTACT: Dr. Donald O. McIsaac, Executive Director; telephone: 503-820-2280.

SUPPLEMENTARY INFORMATION: The following items are on the Council agenda, but not necessarily in this order:

A. Call to Order

1. Opening Remarks, Introductions

2. Roll Call

3. Executive Director's Report

4. Approve Agenda

B. Administrative Matters

1. Approval of Council Meeting Minutes

2. Legislative Matters

3. Appointments to Advisory Bodies, Standing Committees, and Other Forums

4. Work Load Priorities and Draft September 2005 Council Meeting Agenda

C. Groundfish Management

1. Preparatory Informational Briefing on Trawl Individual Quota (TIQ) Program Development

2. Initial Consideration of Opening Date of California Shore-based Whiting Fishery

3. Groundfish Essential Fish Habitat (EFH) Environmental Impact Statement - Final Preferred Alternative

4. Status of 2005 Groundfish Fisheries and Consideration of Inseason Adjustments

5. TIQ Program Development

6. Rebuilding Plan Revision Rules

7. Final Consideration of Inseason Adjustments, if necessary

D. Salmon Management

1. Technical Basis for the Klamath River Fall Chinook Conservation Objective

2. Status Report on Reinitiation of Consultation for California Coastal Chinook

E. Highly Migratory Species Management

1. NMFS Report

2. Draft Inter-American Tropical Tuna Commission Resolution on Albacore Tuna

3. Status of Fisheries and Preliminary Stock Assessment and Fishery Evaluation (SAFE) Report

4. Response to Overfishing of Bigeye Tuna

5. Exempted Fishing Permits

6. Management Regime for High Seas Longline Fishery

F. Coastal Pelagic Species Management

1. Pacific Mackerel Harvest Guidelines for 2005/06 Fishery

2. Fishery Management Plan Amendment 11 - Sardine Allocation

3. SAFE Document and Five-Year EFH Review

SCHEDULE OF ANCILLARY MEETINGS

SUNDAY, JUNE 12, 2005

Groundfish Advisory Subpanel-1 p.m.

Groundfish Management Team-1 p.m.

MONDAY, JUNE 13, 2005

Council Secretariat-8 a.m.

Groundfish Advisory Subpanel-8 a.m.

Groundfish Management Team-8 a.m.

Highly Migratory Species Advisory Subpanel- 8 a.m.

Highly Migratory Species Management Team-8 a.m.

Scientific and Statistical Committee-8 a.m.

Special Session: Ocean Regime Shifts-9 a.m.

Legislative Committee-9 a.m.

Special Session: Rebuilding Plan Revision Rules Policy -10:30 a.m.

Enforcement Consultants-5 p.m.

TUESDAY, JUNE 14, 2005

Council Secretariat-7 a.m.

California State Delegation-7 a.m.

Oregon State Delegation-7 a.m.

Washington State Delegation-7 a.m.

Groundfish Advisory Subpanel-8 a.m.

Groundfish Management Team-8 a.m.

Scientific and Statistical Committee-8 a.m.

Enforcement Consultants-As necessary

WEDNESDAY, JUNE 15, 2005

Council Secretariat-7 a.m.

California State Delegation-7 a.m.

Oregon State Delegation-7 a.m.

Washington State Delegation-7 a.m.

Coastal Pelagic Species Advisory Subpanel- 8 a.m.

Groundfish Advisory Subpanel-8 a.m.

Groundfish Management Team-8 a.m.

Scientific and Statistical Committee-8 a.m.

Enforcement Consultants-As necessary

THURSDAY, JUNE 16, 2005

Council Secretariat-7 a.m.

California State Delegation-7 a.m.

Oregon State Delegation-7 a.m.

Washington State Delegation-7 a.m.

Groundfish Advisory Subpanel-8 a.m.

Groundfish Management Team-8 a.m.

Enforcement Consultants-As necessary

FRIDAY, JUNE 17, 2005

Council Secretariat-7 a.m.

California State Delegation-7 a.m.

Oregon State Delegation-7 a.m.

Washington State Delegation-7 a.m.

Enforcement Consultants-As necessary

Although non-emergency issues not contained in this agenda may come before this Council for discussion, those issues may not be the subject of formal Council action during this meeting. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at (503) 820-2280 at least 5 days prior to the meeting date.

Dated: May 24, 2005.
Emily Menashes,
Acting Director, Office of Sustainable Fisheries, National Marine Fisheries Service.

[FR Doc. E5-2696 Filed 5-26-05; 8:45 am]

BILLING CODE 3510-22-S